FEDERAL ACCOUNTING STANDARDS ADVISORY BOARD

Notice of Issuance of Statement of Federal Financial Accounting Standards 41, Deferral of the Effective Date of SFFAS 38, Accounting for Federal Oil and Gas Resources, and Issuance of Final Technical Bulletin 2011-1, Accounting for Federal Natural Resources Other Than Oil and Gas

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has issued Statement of Federal Financial Accounting Standards 41, Accounting for Federal Natural Resources Other than Oil and Gas.

The Standard is available on the FASAB Web site at http://www.fasab.gov/board-activities/documents-for-comment/exposure-drafts-and-documents-for-comment/.

The Federal Accounting Standards Advisory Board (FASAB) also announces the issuance of final Technical Bulletin 2011-1, Accounting for Federal Natural Resources Other than Oil and Gas.

The Technical Bulletin is available on the FASAB Web site at http://www.fasab.gov/pdffiles/handbook tech bulletin 20111.pdf.

Copies of SFFAS 41 and Technical Bulletin 2011-1 can also be obtained by contacting FASAB at (202) 512-7350.

FOR FURTHER INFORMATION CONTACT: Wendy Payne, Executive Director, at (202) 512-7350.

Authority: Federal Advisory Committee Act, Pub. L. 92-463.

Dated: July 6, 2011.
Charles Jackson,
Federal Register Liaison Officer.

[FR Doc. 2011-17384 Filed 7-11-11; 8:45 am]

BILLING CODE 1610-02-P